ENVIRONMENTAL PROTECTION AGENCY

[OPPTS-00672; FRL-6599-6]

National Action Plan for Alkyl-lead; Notice of Availability and Solicitation of Public Comment

AGENCY: Environmental Protection Agency (EPA).

ACTION: Notice of availability and solicitation of public comment.

SUMMARY: EPA has developed a draft National Action Plan to promote further voluntary reductions of use and exposure to alkyl-lead compounds. Alkyl-lead is used as a fuel additive to reduce “knock” in combustion engines and also to help lubricate internal engine components and protect intake and exhaust valves against recession. Currently, the largest uses of alkyl-lead are in aviation gasoline for general aviation (piston-engine) aircraft and racing gasoline. This plan was developed pursuant to the Agency's Multimedia Strategy for Priority Persistent, Bioaccumulative, and Toxic (PBT) Pollutants. This Notice announces the availability of the Alkyl-lead National Action Plan for public review and comment.

DATES: Comments, identified by docket control number OPPTS-00672, must be received on or before September 25, 2000.

ADDRESSES: Comments may be submitted by mail, electronically, or in person. Please follow the detailed instructions for each method as provided in Unit I. of the SUPPLEMENTARY INFORMATION. To ensure proper receipt by EPA, it is imperative that you identify docket control number OPPTS-00672 in the subject line on the first page of your response.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Paul Matthai, Pollution Prevention Division (7409), Office of Pollution Prevention and Toxics, Environmental Protection Agency, 1200 Pennsylvania Ave., NW., Washington, DC 20460; telephone number: (202) 260-3385; e-mail address: matthai.paul@epa.gov.

SUPPLEMENTARY INFORMATION:

I. General Information

A. Does this Action Apply to Me?

This action is directed to the public in general. This action may, however, be of interest to persons who make, distribute, or use racing and aviation gasoline. Since other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/pbt. To access this document, on the PBT Home Page select “Strategy and Action Plans.”

2. In person. The Agency has established an official record for this action under docket control number OPPTS-00672. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-00672 in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-00672. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is the Agency Taking?

On November 16, 1998, EPA released its Agency-wide Multimedia Strategy for Priority Persistent, Bioaccumulative, and Toxic (PBT) Pollutants (PBT Strategy). The goal of the PBT Strategy is to identify and reduce risks to human health and the environment from current and future exposure to priority PBT pollutants. This document serves as the Draft National Action Plan for Alkyl-Lead, one of the 12 Level 1 priority PBT pollutants identified for the initial focus of action in the PBT Strategy.

Alkyl-lead compounds are man-made compounds in which a carbon atom of one or more organic molecules is bound to a lead atom. Tetraethyllead (TML) and TML compounds are the most common alkyl-lead compounds that have been used in the past and are still in use today in the United States. These two alkyl-lead compounds are the focus of this National Action Plan. Alkyl-lead is used as a fuel additive to reduce “knock” in combustion engines and also to help lubricate internal engine components and protect intake and exhaust valves against recession. Currently, the largest uses of alkyl-lead are in aviation gasoline for general aviation (piston-engine) aircraft, and racing gasoline. Neither of these uses are subject to any of the regulations that restrict leaded motor gasoline use.

In the body, alkyl-lead compounds are distributed through the blood to “soft tissues” particularly the liver, kidneys, muscles, and brain. Initial symptoms of alkyl-lead poisoning include, among others: anorexia, insomnia, tremor, weakness, fatigue, nausea and vomiting, mood shifts such as aggression or depression, and impairment of memory. In the case of acute alkyl-lead poisoning, possible health effects include mania, convulsions, delirium, fever, coma, and in some cases even death. Lead poisoning due to the ingestion or inhalation of inorganic lead compounds emitted as exhaust through the combustion process (as a direct result of the use of alkyl-lead in gasoline) is a widely recognized public health problem.

EPA is requesting public comment on a strategy to address the remaining risks to human health and the environment from exposure to alkyl-lead: (1) Contribute to international efforts to reduce the use of alkyl-lead world-wide; (2) pursue voluntary initiatives to reduce the use of alkyl-lead in aircraft gasoline, race cars, and non-road vehicles such as farm machinery, marine vessels, construction equipment, and recreational vehicles; and (3) collect information as possible, given resource constraints, related to production, use, emissions, and continued exposure scenarios.

List of Subjects

Environmental protection.

Dated: August 7, 2000.
Susan H. Wayland,
Acting Assistant Administrator, Office of Prevention, Pesticides and Toxic Substances.

[FR Doc. 00-21782 Filed 8-24-00; 8:45 am]

BILLING CODE 6560-50-F